FEDERAL MARITIME COMMISSION

Sunshine Act Meetings

TIME AND DATE: January 27, 2022; 10:00 a.m.

PLACE: This meeting will be held by video-conference only.

STATUS: Part of the meeting will be open to the public and available to view streamed live, accessible from www.fmc.gov. The rest of the meeting will be closed to the public.

MATTERS TO BE CONSIDERED:

Portions Open to the Public

1. Commissioner Bentzel, Maritime Transportation Data Initiative

2. Staff Update on Vessel-Operating Common Carrier Audit Program

3. Area Representative Regional Activity Updates

Portions Closed to the Public

1. Staff Update on Vessel-Operating Common Carrier Audit Program

2. Area Representative Regional Activity Updates

3. Staff Briefing on Detention and Demurrage Billing

4. Investigation into Conditions Created by Canadian Ballast Water Regulations in the U.S./Canada Great Lakes Trade

CONTACT PERSON FOR MORE INFORMATION: William Cody, Secretary, (202) 523-5725.

William Cody,
Secretary.

[FR Doc. 2022-01351 Filed 1-20-22; 11:15 am]

BILLING CODE 6730-02-P